NUCLEAR REGULATORY COMMISSION

10 CFR Part 73

[Docket No. PRM-73-13; NRC-2007-0023]

David Lochbaum, Union of Concerned Scientists; Consideration of Petition in the Rulemaking Process

AGENCY: Nuclear Regulatory Commission.

ACTION: Resolution and closure of petition docket.

SUMMARY: The Nuclear Regulatory Commission (NRC) is considering the issues raised in a petition for rulemaking submitted by David Lochbaum, on behalf of the Union of Concerned Scientists, in the ongoing “Power Reactor Security Requirements” rulemaking. The petitioner requested that the NRC amend its regulations to require that licensees implement procedures to ensure that when information becomes known to a licensee about an individual that would prevent that individual from gaining unescorted access to the protected area of a nuclear power plant, the licensee will implement measures to ensure the individual does not enter the protected area, whether escorted, or not; and, when sufficient information is not available to a licensee about an individual to determine whether the criteria for unescorted access are satisfied, the licensee will implement measures to allow that individual to enter the protected area only when escorted at all times by an armed member of the security force who remains in periodic communication with security supervision.

DATES: The docket for the petition for rulemaking PRM-73-13 is closed on July 29, 2008.

ADDRESSES: You can access publicly available documents related to this petition for rulemaking using the following methods:

Federal e-Rulemaking Portal: Further NRC action on the issues raised by this petition will be accessible at the federal rulemaking portal, http://www.regulations.gov, by searching on rulemaking docket ID: NRC-2006-0016 and docket ID: NRC-2008-0019. The NRC also tracks all rulemaking actions in the “NRC Regulatory Agenda: Semiannual Report (NUREG-0936).”

NRC's Public Document Room (PDR): The public may examine and have copied for a fee, publicly available documents at the NRC's PDR, Public File Area O-1F21, One White Flint North, 11555 Rockville Pike, Rockville, Maryland.

NRC's Agencywide Document Access and Management System (ADAMS): Publicly available documents created or received at the NRC are available electronically at the NRC's Electronic Reading Room at http://www.nrc.gov/NRC/reading-rm/adams.html. From this page, the public can gain entry into ADAMS, which provides text and image files of NRC's public documents. If you do not have access to ADAMS or if there are any problems in accessing the documents located in ADAMS, contact the NRC PDR Reference staff at 1-800-397-4209, 301-415-4737 or by e-mail to PDR.resource@nrc.gov.

FOR FURTHER INFORMATION CONTACT: Lauren Quinones, Office of Nuclear Reactor Regulation, U.S. Nuclear Regulatory Commission, Washington, DC 20555-0001, Telephone: 301-415-2007, or toll-free: 800-368-5642, e-mail: Lauren.Quinones@nrc.gov.

SUPPLEMENTARY INFORMATION: On April 9, 2007 (72 FR 17440), the Nuclear Regulatory Commission (NRC) published for public comment a petition for rulemaking (PRM) filed by David Lochbaum, Union of Concerned Scientists. The comment period closed on June 25, 2007 and the NRC received twelve comments.

The NRC has determined that the issues raised in PRM-73-13 are appropriate for consideration and, in fact, the issues are already being considered in the ongoing “Power Reactors Security Requirements” rulemaking. NRC staff will address the comments filed in PRM-73-13 as part of the “Power Reactor Security Requirements” rulemaking. The proposed rule was published in the Federal Register on October 26, 2006 (71 FR 62664). That rulemaking did consider the topics of PRM-73-13 and proposed extensive revisions to the NRC regulations in 10 CFR Parts 50, 72, and 73 that address security requirements for nuclear power reactor licensees. The comment period on that proposed rule expired on March 26, 2007.

Dated at Rockville, Maryland, this 1st day of July 2008.
For the Nuclear Regulatory Commission.
R.W. Borchardt,
Executive Director for Operations.

[FR Doc. E8-17321 Filed 7-28-08; 8:45 am]

BILLING CODE 7590-01-P